DEPARTMENT OF TRANSPORTATION

Federal Aviation Administration

Land Release for Plattsburgh International Airport

AGENCY: Federal Aviation Administration, DOT.

ACTION: Notice, Request for Public Comment.

SUMMARY: The Federal Aviation Administration is requesting public comment on the Plattsburgh International Airport (PBG), Plattsburgh, New York, Notice of Proposed Release from Aeronautical Use, and from the Airport, of approximately 1.73 +/− acres of airport property, to allow for non-aeronautical development.

The parcel is located on the southeast corner of the Plattsburgh International Airport. The Tract (Tract I-901) is currently part of Plattsburgh International Airport and is currently vacant. The requested release is for the purpose of permitting the airport owner (Clinton County) to sell and convey title of 1.73 +/− acres for expansion of a single family residence owned by Mr. Brian K. and Karen L. Dumesnil.

Documents reflecting the Sponsor's request are available, by appointment only, for inspection at the Office of the Clinton County Legislature and the FAA New York Airport District Office.

DATES: Comments must be received by June 14, 2012.

ADDRESSES: Comments on this application may be mailed or delivered to the FAA at the following address: Steven M. Urlass, Manager, FAA New York Airports District Office, 600 Old Country Road, Suite 446, Garden City, New York 11530. In addition, a copy of any comments submitted to the FAA must be mailed or delivered to Mr. James R. Langley, Chairman, Clinton County Legislature, at the following address: Clinton County Government Center, 137 Margaret Street, Plattsburgh, New York 12901.

FOR FURTHER INFORMATION CONTACT: Steven M. Urlass, Manager, New York Airports District Office, 600 Old Country Road, Suite 446, Garden City, New York 11530; telephone (516) 227-3803; FAX (516) 227-3813; email Steven.Urlass@faa.gov.

SUPPLEMENTARY INFORMATION: Section 125 of the Wendell H. Ford Aviation Investment and Reform Act for the 1st Century (AIR21) requires the FAA to provide an opportunity for public notice and comment before the Secretary may waive a Sponsor's Federal obligation to use certain airport land for aeronautical use.

Issued in Garden City, New York, on May 7, 2012.
Steven M. Urlass,
Manager, New York Airports District Office, Eastern Region.

[FR Doc. 2012-11698 Filed 5-14-12; 8:45 am]

BILLING CODE 4910-13-P